ENVIRONMENTAL PROTECTION AGENCY

40 CFR Parts 174 and 180

[EPA-HQ-OPP-2015-0032; FRL-9922-68]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before April 3, 2015.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Susan Lewis, Registration Division (RD) (7505P), main telephone number: (703) 305-7090; email address: RDFRNotices@epa.gov. Robert McNally, Biopesticides and Pollution Prevention Division (BPPD), (7511P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerance

1. PP 4E8298. (EPA-HQ-OPP-2014-0591). Interregional Research Project Number 4 (IR-4), 500 College Road East, Suite 201 W, Princeton, NJ 08540, requests to establish a tolerance in 40 CFR part 180 for residues of the insecticide methoxyfenozide, including its metabolites and degradates in or on the following raw agricultural commodities under paragraph (a): Chive, fresh leaves at 30.0 parts per million (ppm); fruit, stone, group 12-12, except plum, prune, fresh at 3.0 ppm; and nut, tree, group 14-12 at 0.10 ppm. It is also proposed that the following tolerances under paragraph (a) be removed upon approval of the proposed tolerances listed above: Fruit, stone, group 12, except plum, prune, fresh at 3.0 ppm; pistachio at 0.10 ppm; and nut, tree, group 14 at 0.10 ppm; and in paragraph (d), chive at 4.5 ppm be removed. Adequate methods are available for tolerance enforcement in primary crops and animal commodities. Contact: RD.

2. PP 4E8304. (EPA-HQ-OPP-2014-OPP-2014-0681). Sumitomo Chemical Latin America through U.S. Agent Valent USA Corporation, 1600 Riviera Avenue, Suite 200, Walnut Creek, CA 94596, requests to establish an import tolerance in 40 CFR part 180 for residues of the insecticide, etoxazole, 2-(2,6-difluorophenyl)-4-[4-(1,1-dimethylethyl)-2-ethoxyphenyl]-4,5-dihydrooxazole, in or on orange and orange oil at 0.08 ppm and 1.8 ppm. The gas chromatography with mass-selective detection (GC/MSD) enforcement analytical method is used to measure and evaluate the chemical. Contact: RD.

3. PP 4E8311. (EPA-HQ-OPP-2014-0784). Interregional Research Project Number 4 (IR-4), 500 College Road East, Suite 201 W, Princeton, NJ 08540, requests to establish a tolerance in 40 CFR part 180 for residues of the insecticide, flubendiamide, (N2-1,1-dimethyl-2-(methylsulfonyl)ethyl-3-iodo-N1-2-methyl-4-1,2,2,2-tetrafluoro-1-(trifluoromethyl)ethylphenyl-1,2-benzenedicarboxamide) in or on the following: Bushberry subgroup 13-07B at 8.0 ppm; Vegetable, fruiting group 8-10 at 0.60 ppm; Fruit, pome, group 11-10 at 1.5 ppm; Fruit, stone, group 12-12 at 1.6 ppm; Nut, tree, group 14-12 at 0.06 ppm; and Sunflower, subgroup 20B at 5.0 ppm. Upon the approval of the aforementioned tolerances, the petitioner requests to remove the established tolerances for flubendiamide in or on Fruit, pome, group 11 at 1.5 ppm; Fruit, stone, group 12 at 1.6 ppm; Nut, tree, group 14 at 0.06 ppm; Safflower, seed at 5.0 ppm; and Sunflower, seed at 5.0 ppm. Independently validated, analytical methods for crop matrices have been submitted for measuring flubendiamide. Typically, plant matrices samples are extracted, concentrated, and quantified by Liquid Chromotography with tandem mass spectrometry (LC/MS/MS) using deuterated internal standards. Contact: RD.

4. PP 4E8319. (EPA-HQ-OPP-2014-0822). Interregional Research Project Number 4 (IR-4), 500 College Road East, Suite 201 W, Princeton, NJ 08540, requests to establish a tolerance in 40 CFR part 180 for residues of azoxystrobin (methyl (E)-2-{2-[6-(2-cyanophenoxy)pyrimidin-4-yloxy]phenyl}-3-methoxyacrylate) and the Z isomer of azoxystrobin, (methyl (Z)-2-{2-[6-(2- cyanophenoxy)pyrimidin-4-yloxy]pheny1}-3-methoxyacrylate) in or on the raw agricultural commodities Ti palm, leaves at 50 ppm; Ti palm, roots at 0.5 ppm; Fruit, stone, group 12-12 at 2.0 ppm; and Nut, tree, group 14-12 at 0.02 ppm. Upon the approval of the aforementioned tolerances, the petitioner requests to remove the established tolerances for azoxystrobin in or on the raw agricultural commodities Fruit, stone, group 12 at 1.5 ppm; and Nut, tree, group 14 at 0.02 ppm. An adequate analytical method, gas chromatography with nitrogen-phosphorus detection (GC-NPD) or in mobile phase by high performance liquid chromatography with ultra-violet detection (HPLC-UV), is available for enforcement purposes with a limit of detection that allows monitoring of food with residues at or above the levels set in these tolerances. Contact: RD

5. PP 4E8330. (EPA-HQ-OPP-2014-0879). Interregional Research Project No. 4 (IR-4), IR-4 Headquarters, 500 College Road East, Suite 201 W, Princeton, NJ, requests to establish a tolerance in 40 CFR part 180 for residues of the herbicide, penoxsulam (2-(2,2-difluoroethoxy)-N-(5,8-dimethoxy[1,2,4] triazolo[1,5-c]pyrimidin-2-yl)-6-(trifluoromethyl)benzenesulfonamide) in or on the following raw agricultural commodities: Fruit, pome, group 11-10 at 0.01 ppm, Fruit, stone, group 12-12 at 0.01 ppm, Fruit, small, vine climbing, subgroup 13-07F, except Fuzzy kiwifruit at 0.01 ppm, Nut, tree, group 14-12 at 0.01 ppm, Olive at 0.01 ppm, and Pomegranate at 0.01 ppm. In addition, the petitioner proposes based upon the establishment of the just mentioned new tolerances, removal of existing tolerances at 40 CFR 180.605 for Grape at 0.01 ppm, Nut, tree, group 14 at 0.01 ppm and Pistachio at 0.01 ppm. The residues of penoxsulam were determined using the analytical method GRM 04.09 which involves sample extraction and preparation procedures, and analyses by liquid chromatography with positive-ion electrospray tandem mass spectrometry (LC/MS/MS). Contact: RD

6. PP 4F8239. (EPA-HQ-OPP-2015-0031). Syngenta Crop Protection, LLC. 410 Swing Road. P.O. Box 18300. Greensboro, NC 27419, requests to establish a tolerance in 40 CFR 180.637 for residues of the fungicide, mandipropamid, in or on potato at 0.08 ppm. The RAM 415-02 is used to measure and evaluate the chemical mandipropamid. Contact: RD.

Amended Tolerance

1. PP 4E8298. (EPA-HQ-OPP-2014-0591). Interregional Research Project Number 4 (IR-4), 500 College Road East, Suite 201 W, Princeton, NJ 08540, requests to amend the tolerances in 40 CFR 180.544 for residues of the insecticide, methoxyfenozide in or on onion, green, subgroup 3-07B at 5.0 ppm to onion, green, subgroup 3-07B, except chive at 5.0 ppm; and herb subgroup 19A, except chive at 400 ppm to Herb subgroup 19A, except chive, fresh leaves at 400 ppm. Adequate methods are available for tolerance enforcement in primary crops and animal commodities. Contact: RD.

2. PP 4F8329. (EPA-HQ-OPP-2015-0031). Syngenta Crop Protection, LLC. 410 Swing Road. P.O. Box 18300. Greensboro, NC 27419, requests to amend the tolerance in 40 CFR 180.637 for residues of the fungicide, mandipropamid, in or on potato, wet peel at 0.12 parts per million (ppm), and amend the current tolerance commodity terminology which contains potato from “vegetable, tuberous and corm, subgroup 1C”, to “vegetable, tuberous and corm, subgroup 1C, except potato”. The RAM 415-02 analytical method is used to measure and evaluate the chemical mandipropamid. Contact: RD.

New Tolerance Exemption

1. IN 10713. (EPA-HQ-OPP-2014-0630). ISK Biosciences Corporation, 7470 Auburn Road, Suite A, Concord, OH 44077, requests to establish an exemption from the requirement of a tolerance for residues of dimethyl sulfoxide (CAS No.67-68-5), when used as a pesticide inert ingredient in pesticide formulations as a diluent in cyclaniliprole only formulations in accordance with 40 CFR 180.920. The petitioner believes no analytical method is needed because it is not required for the establishment of a tolerance exemption for inert ingredients. Contact: RD.

2. IN-10720. (EPA-HQ-OPP-2014-0633). BASF Corporation, 26 Davis Drive, P.O. Box 13528 Research Triangle Park, NC, 27709, requests to establish an exemption from the requirement of a tolerance for residues of methanesulfonic acid (CAS No. 75-75-2), when used as a pesticide inert ingredient in pesticide formulations for use on animals and in food contact surface sanitizing solutions. The petitioner believes no analytical method is needed because the request is for an exemption from the requirement of a tolerance. Contact: RD.

3. IN-10748. (EPA-HQ-OPP-2014-0783). Huntsman Corporation (8600 Gosling Road, The Woodlands, TX 77381, requests to establish an exemption from the requirement of a tolerance for residues of benzyl acetate (CAS No. 140-11-4), when used as a pesticide inert ingredient in pesticide formulations on growing crops under 40 CFR 180.920. The petitioner believes no analytical method is needed because the request is for an exemption from the requirement of a tolerance. Contact: RD.

4. IN 10766. (EPA-HQ-OPP-2014-0793). West Agro, Inc., 11100 N. Congress Ave., Kansas City, MO 64153, requests to establish an exemption from the requirement of a tolerance for residues of acetic acid (CAS No.64-19-7) when used as a pesticide inert ingredient in pesticide formulations not to exceed a concentration of 1,200 ppm, in a sanitizing end use product for use on dairy processing equipment and food-processing equipment and utensils under 40 CFR 180.940(b) and 180.940(c). The petitioner believes no analytical method is needed because it is not required for the establishment of a tolerance exemption for inert ingredients. Contact: RD.

5. PP 4F8287. (EPA-HQ-OPP-2015-0023). CP Bio, Inc., 4802 Murrieta Street, Chino, CA 91710, requests to establish an exemption from the requirement of a tolerance in 40 CFR part 180 for residues of the biochemical plant growth regulator, Choline Chloride (Acetyl Choline), in or on all raw agricultural commodities, when applied pre-harvest. The analytical method High-Performance Liquid Chromatographic (HPLC) Analysis is available to EPA for the detection and measurement of the pesticide residue. Contact: BPPD.

6. PP 4F8292. (EPA-HQ-OPP-2015-0017). Suterra LLC, 20950 NE Talus Place, Bend, OR 97701, requests to establish an exemption from the requirement of a tolerance in 40 CFR part 180 for residues of the arthropod pheromone, lavandulyl senecioate, in or on all raw agricultural commodities when applied to growing crops at a rate not to exceed 150 grams active ingredient/acre/year in accordance with good agricultural practices. The petitioner believes no analytical method is needed because significant residues of the pheromone active ingredient are not possible if use rates are limited to 150 grams pheromone active ingredient per acre per year. Contact: BPPD.

7. PP 4F8313. (EPA-HQ-OPP-2014-0896). Technology Sciences Group, Inc., 712 Fifth St., Suite A, Davis, CA 95616 (on behalf of EctoPharma Ltd., Dunsdale Rd., Selkirk, TD7 5EB, United Kingdom), requests to establish an exemption from the requirement of a tolerance in 40 CFR part 180 for residues of the insecticide, 1,2-Octanediol, in or on all food commodities. The petitioner believes no analytical method is needed because it is expected that when the pesticide containing 1,2-Octanediol is used as proposed, it would not result in residues that are of toxicological concern. Contact: BPPD.

Authority: 21 U.S.C. 346a.

Dated: February 18, 2015.
Susan T. Lewis,
Director, Registration Division, Office of Pesticide Programs.

[FR Doc. 2015-04281 Filed 3-3-15; 8:45 am]

BILLING CODE 6560-50-P